DEPARTMENT OF DEFENSE

Office of the Secretary

[Docket ID: DoD-2014-HA-0005]

Proposed Collection; Comment Request

AGENCY: Office of the Assistant Secretary of Defense for Health Affairs, DoD.

ACTION: Notice.

SUMMARY: In compliance with Section 3506(c)(2)(A) of the Paperwork Reduction Act of 1995, the Office of the Assistant Secretary of Defense for Health Affairs announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by March 14, 2014.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Defense Health Agency, TRICARE Overseas Program Office, ATTN: Ms. Kimberly Stakes, 7700 Arlington Boulevard, Suite 5101, Falls Church, VA 22042-5101, or call 703-681-0039.

SUPPLEMENTARY INFORMATION:

Title; Associated Form; and OMB Number: Women, Infants and Children Overseas Participant Satisfaction Survey; OMB Control Number 0720-0046.

Needs and Uses: The information collection requirement is necessary to obtain the participant's satisfaction levels with the services provided by the WIC overseas staff and the overall program. The findings from the surveys will be used to determine the success of the WIC overseas program and if improvements are necessary.

Affected Public: Individual or Households

Annual Burden Hours: 37.5

Number of Respondents: 150

Responses per Respondent: 1

Average Burden per Response: 15 minutes

Frequency: On occasion

Respondents are individuals who are currently receiving WIC overseas services. The purpose of the WIC overseas survey is to assess the participant's satisfaction level with the services provided by the WIC overseas staff and the overall program. The survey includes questions regarding site access, customer service, quality of health information and overall program satisfaction. The findings of these surveys will be used to determine the success of the WIC overseas program and if improvements are necessary. The WIC overseas program is a legislatively mandated program and it is anticipated that the program will continue indefinitely. As such, DoD is publishing this formal notice.

Dated: January 8, 2014.
Aaron Siegel,
Alternate OSD Federal Register Liaison Officer, Department of Defense.

[FR Doc. 2014-00361 Filed 1-10-14; 8:45 am]

BILLING CODE 5001-06-P